DEPARTMENT OF TRANSPORTATION

Federal Railroad Administration

Revised Guidance for Requesting One-Time Movement Approvals (OTMA)

AGENCY: Federal Railroad Administration (FRA), Department of Transportation (DOT).

ACTION: Notice of Availability.

SUMMARY: FRA is notifying the public of the availability of revised guidance for requesting one-time movement approvals (OTMA) for the transportation by rail of nonconforming or leaking bulk hazardous materials packages.

FOR FURTHER INFORMATION CONTACT: Karl Alexy, Staff Director, Hazardous Materials Division, Office of Safety Assurance and Compliance, FRA, 1200 New Jersey Avenue SE., Mailstop 25, Washington, DC 20590; telephone: (202) 493-6245; or Karl.Alexy@dot.gov.

SUPPLEMENTARY INFORMATION: The Hazardous Materials Regulations (HMR) issued by the Pipeline and Hazardous Materials Safety Administration (PHMSA) govern the rail transportation of hazardous materials. Title 49 Code of Federal Regulations Section 174.50 of the HMR forbids the transportation by rail of a bulk packaging that no longer conforms to HMR or that is leaking, unless otherwise approved by FRA's Associate Administrator for Railroad Safety/Chief Safety Officer. These approvals are generally referred to as OTMAs.

Recently, FRA revised its OTMA procedures to streamline the overall OTMA process and to minimize unnecessary administrative burdens. On January 31, 2012, FRA issued Hazardous Materials Guidance Number HMG-127, which explained these revised procedures and the criteria for issuance of OTMAs. Based on experience with the procedures and comments received from industry, FRA modified and reissued the procedures in Revision 2 of HMG-127, dated October 31, 2012. The revised HMG-127 is available for review on FRA's Web site at: http://www.fra.dot.gov/Pages/789.shtml. In addition, FRA revised the OTMA application, which is available on FRA's Web site at: http://www.fra.dot.gov/rrs/pages/fp_1799.shtml. FRA staff can provide copies of these documents for review upon request if contacted at the address and telephone number listed above.

Issued in Washington, DC, on November 20, 2012.
Robert C. Lauby,
Deputy Associate Administrator for Regulatory and Legislative Operations.

[FR Doc. 2012-28698 Filed 11-26-12; 8:45 am]

BILLING CODE 4910-06-P